DEPARTMENT OF TRANSPORTATION

Federal Aviation Administration

14 CFR Part 39

[Docket No. FAA-2010-1114; Directorate Identifier 2010-NM-206-AD; Amendment 39-16591; AD 2011-03-07]

RIN 2120-AA64

Airworthiness Directives; Fokker Services B.V. Model F.28 Mark 0100, 1000, 2000, 3000, and 4000 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Prompted by an accident * * *, the FAA published Special Federal Aviation Regulation (SFAR) 88, and the Joint Aviation Authorities (JAA) published Interim Policy INT/POL/25/12. The design review conducted by Fokker on the F28 in response to these regulations revealed that, in case of a lightning strike, an ignition source can develop in the wing tank vapour space during fuel transfer from bag tank CWT [center wing tank], if the electrical power for refuelling is not switched off after refuelling.

Service experience has revealed situations where the power switch of the Fuelling Control Panel (FCP) appeared to be “ON” with the access panel closed. The cam on the access panel that should operate the power switch, if forgotten by flight crew or maintenance staff, can pivot away during closing of the panel, which may result in the switch staying in the “ON” position.

This condition, if not corrected, could result in a wing fuel tank explosion and consequent loss of the aeroplane.

* * * * *

We are issuing this AD to require actions to correct the unsafe condition on these products.

DATES: This AD becomes effective March 14, 2011.

The Director of the Federal Register approved the incorporation by reference of certain publications listed in this AD as of March 14, 2011.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Discussion

We issued a notice of proposed rulemaking (NPRM) to amend 14 CFR part 39 to include an AD that would apply to the specified products. That NPRM was published in the Federal Register on November 19, 2010 (75 FR 70861). That NPRM proposed to correct an unsafe condition for the specified products. The MCAI states:

Prompted by an accident * * *, the FAA published Special Federal Aviation Regulation (SFAR) 88, and the Joint Aviation Authorities (JAA) published Interim Policy INT/POL/25/12. The design review conducted by Fokker on the F28 in response to these regulations revealed that, in case of a lightning strike, an ignition source can develop in the wing tank vapour space during fuel transfer from bag tank CWT [center wing tank], if the electrical power for refuelling is not switched off after refuelling.

Service experience has revealed situations where the power switch of the Fuelling Control Panel (FCP) appeared to be “ON” with the access panel closed. The cam on the access panel that should operate the power switch, if forgotten by flight crew or maintenance staff, can pivot away during closing of the panel, which may result in the switch staying in the “ON” position.

This condition, if not corrected, could result in a wing fuel tank explosion and consequent loss of the aeroplane.

For the reasons described above, this [EASA] AD requires an inspection of the cam and, depending on findings, replacement with an improved part. Subsequently, this AD requires repetitive functional checks of the cam and, depending on findings, the necessary corrective actions.

The corrective action is adjusting the FCP cam until it operates correctly. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect 6 products of U.S. registry. We also estimate that it will take about 3 work-hours per product to comply with the basic requirements of this AD. The average labor rate is $85 per work-hour. Required parts will cost about $426 per product. Where the service information lists required parts costs that are covered under warranty, we have assumed that there will be no charge for these parts. As we do not control warranty coverage for affected parties, some parties may incur costs higher than estimated here. Based on these figures, we estimate the cost of this AD to the U.S. operators to be $4,086, or $681 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-03-07 Fokker Services B.V.: Amendment 39-16591. Docket No. FAA-2010-1114; Directorate Identifier 2010-NM-206-AD.

Effective Date

(a) This airworthiness directive (AD) becomes effective March 14, 2011.

Affected ADs

(b) None.

Applicability

(c) This AD applies to Fokker Services B.V. Model F.28 Mark 1000, 2000, 3000, and 4000 airplanes, all serial numbers, equipped with a center wing tank (CWT); and Model F.28 Mark 0100 airplanes, serial numbers 11244 through 11441; certificated in any category.

Subject

(d) Air Transport Association (ATA) of America Code 28: Fuel.

Reason

(e) The mandatory continuing airworthiness information (MCAI) states:

Prompted by an accident * * *, the FAA published Special Federal Aviation Regulation (SFAR) 88, and the Joint Aviation Authorities (JAA) published Interim Policy INT/POL/25/12. The design review conducted by Fokker on the F28 in response to these regulations revealed that, in case of a lightning strike, an ignition source can develop in the wing tank vapour space during fuel transfer from bag tank CWT [center wing tank], if the electrical power for refuelling is not switched off after refuelling.

Service experience has revealed situations where the power switch of the Fuelling Control Panel (FCP) appeared to be “ON” with the access panel closed. The cam on the access panel that should operate the power switch, if forgotten by flight crew or maintenance staff, can pivot away during closing of the panel, which may result in the switch staying in the “ON” position.

This condition, if not corrected, could result in a wing fuel tank explosion and consequent loss of the aeroplane.

Compliance

(f) You are responsible for having the actions required by this AD performed within the compliance times specified, unless the actions have already been done.

Initial Inspection and Corrective Actions

(g) Within 6 months after the effective date of this AD, inspect the FCP cam to determine the part number (P/N), in accordance with Part 1 of the Accomplishment Instructions of Fokker Service Bulletin SBF28-28-052, dated April 20, 2010 (for Model F.28 Mark 1000, 2000, 3000, and 4000 airplanes); or SBF100-28-063, dated April 15, 2010 (for Model F.28 Mark 0100 airplanes).

(1) If the correct part number is installed (P/N D48127-009 for Model F.28 Mark 0100 airplanes and P/N A42509-089 for Model F.28 Mark 1000, 2000, 3000, and 4000 airplanes), before further flight, do an inspection to verify that the cam operates correctly, in accordance with Part 1 of the Accomplishment Instructions of Fokker Service Bulletin SBF28-28-052, dated April 20, 2010 (for Model F.28 Mark 1000, 2000, 3000, and 4000 airplanes); or SBF100-28-063, dated April 15, 2010 (for Model F.28 Mark 0100 airplanes).

(2) If a part number other than P/N D48127-009 for Model F.28 Mark 0100 airplanes and P/N A42509-089 for Model F.28 Mark 1000, 2000, 3000, and 4000 airplanes is installed, within 24 months after the effective date of this AD, replace the cam with a cam having a correct part number, and do an inspection to verify that the cam operates correctly, in accordance with Part 2 of the Accomplishment Instructions of Fokker Service Bulletin SBF28-28-052, dated April 20, 2010 (for Model F.28 Mark 1000, 2000, 3000, and 4000 airplanes); or SBF100-28-063, dated April 15, 2010 (for Model F.28 Mark 0100 airplanes).

(3) If, during any inspection required by paragraphs (g)(1) and (g)(2) of this AD, the cam does not operate correctly, before further flight, adjust the cam until it operates correctly, in accordance with Part 2 of the Accomplishment Instructions of Fokker Service Bulletin SBF28-28-052, dated April 20, 2010 (for Model F.28 Mark 1000, 2000, 3000, and 4000 airplanes); or SBF100-28-063, dated April 15, 2010 (for Model F.28 Mark 0100 airplanes).

Repetitive Inspections

(h) Within 1,200 flight hours after verifying that the cam operates correctly, as required by paragraphs (g)(1) and (g)(2) of this AD, as applicable: Do an inspection to verify that the cam operates correctly and, before further flight, do all applicable corrective actions, in accordance with Part 2 of the Accomplishment Instructions of Fokker Service Bulletin SBF28-28-052, dated April 20, 2010 (for Model F.28 Mark 1000, 2000, 3000, and 4000 airplanes); or SBF100-28-063, dated April 15, 2010 (for Model F.28 Mark 0100 airplanes). Thereafter, repeat the inspection of the cam at intervals not to exceed 1,200 flight hours.

Parts Installation

(i) As of the effective date of this AD, no person may install an FCP access door, cam, or fueling panel on any airplane, unless the requirements of this AD have been accomplished on the cam.

FAA AD Differences

Note 1: This AD differs from the MCAI and/or service information as follows: Although paragraph (6) of the MCAI provides an option to incorporate the repetitive functional inspection into the maintenance program and then use the maintenance program as a method of complying with the repetitive inspection requirement, this AD does not include that provision.

Other FAA AD Provisions

(j) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Rodriguez, Aerospace Engineer, International Branch, ANM-116, Transport Airplane Directorate, FAA, 1601 Lind Avenue, SW., Renton, Washington 98057-3356; telephone (425) 227-1137; fax (425) 227-1149. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(k) Refer to MCAI European Aviation Safety Agency (EASA) Airworthiness Directive 2010-0139, dated July 1, 2010; Fokker Service Bulletin SBF28-28-052, dated April 20, 2010; and Fokker Service Bulletin SBF100-28-063, dated April 15, 2010; for related information.

Material Incorporated by Reference

(l) You must use Fokker Service Bulletin SBF28-28-052, dated April 20, 2010; or Fokker Service Bulletin SBF100-28-063, dated April 15, 2010; as applicable; to do the actions required by this AD, unless the AD specifies otherwise.

(1) The Director of the Federal Register approved the incorporation by reference of this service information under 5 U.S.C. 552(a) and 1 CFR part 51.

(2) For service information identified in this AD, contact Fokker Services B.V., Technical Services Dept., P.O. Box 231, 2150 AE Nieuw-Vennep, the Netherlands; telephone +31 (0)252-627-350; fax +31 (0)252-627-211; e-mail technicalservices.fokkerservices@stork.com; Internet http://www.myfokkerfleet.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on January 25, 2011.
Ali Bahrami,
Manager, Transport Airplane Directorate, Aircraft Certification Service.

[FR Doc. 2011-2162 Filed 2-4-11; 8:45 am]

BILLING CODE 4910-13-P